MORRIS K. UDALL SCHOLARSHIP AND EXCELLENCE IN NATIONAL ENVIRONMENTAL POLICY FOUNDATION

Institute for Environmental Conflict Resolution—Program Evaluation Instruments: Agency Information Collection Activities: Proposed Collection; Comment Request

AGENCY: Morris K. Udall Scholarship and Excellence in National Environmental Policy Foundation, U.S. Institute for Environmental Conflict Resolution.

ACTION: Notice.

SUMMARY: In compliance with the Paperwork Reduction Act (44 U.S.C. 3501 et seq.), this document announces that the U.S. Institute for Environmental Conflict Resolution (the U.S. Institute), part of the Morris K. Udall Foundation, is planning to submit 18 proposed Information Collection Requests (ICRs) to the Office of Management and Budget (OMB). Each of these 18 ICRs is a new collection request; they are being consolidated under a single filing to provide a more coherent picture of information collection activities by the U.S. Institute. The proposed information collection is expected to neither have a significant economic impact on respondents, nor affect a substantial number of small entities. The average cost (in lost time) per respondent is estimated to be $4.91.

Before submitting the ICRs to OMB for review and approval, the U.S. Institute is soliciting comments on specific aspects of the information collection as described at the beginning of the section labeled “Supplementary Information.”

DATES: Comments must be submitted on or before February 25, 2002.

ADDRESSES: U.S. Institute for Environmental Conflict Resolution, 110 South Church Avenue, Suite 3350, Tucson, Arizona 85701. Worldwide web: www.ecr.gov.

FOR FURTHER INFORMATION CONTACT: David P. Bernard, Associate Director, U.S. Institute for Environmental Conflict Resolution, 110 South Church Avenue, Suite 3350, Tucson, Arizona 85701, Fax: 520-670-5530, Phone: 520-670-5299, E-mail: bernard@ecr.gov.

SUPPLEMENTARY INFORMATION:

OVERVIEW

To comply with the Government Performance and Results Act (GPRA) (Pub. L. 103-62), the U.S. Institute for Environmental Conflict Resolution, as part of the Morris K. Udall Foundation, is required to produce, each year, an Annual Performance Plan, linked directly to the goals and objectives outlined in the Institute's five-year Strategic Plan. The U.S. Institute is also required to produce an Annual Performance Report, evaluating progress toward achieving its performance commitments. The U.S. Institute is currently developing a program evaluation system to gather and analyze information needed to assist in producing its Annual Performance Report.

The U.S. Institute is committed to establishing, achieving, and maintaining a national standard of excellence in all its programs, products, and services. To do so, the U.S. Institute requires high quality information concerning effectiveness of its various initiatives. Systematic and ongoing monitoring of program outcomes will allow the U.S. Institute to perform a variety of tasks, including giving individual project and program managers, as well as the Institute's management, the ability to accurately assess and report on program and project achievements. The new evaluation system has been carefully designed to support efficient and economical generation, analysis and use of this much-needed information, with an emphasis on program feedback, learning and improvement.

As part of the program evaluation system, the U.S. Institute intends to collect specific information from participants in, and users of, several of its programs and services. Specifically, five of the Institute's programs and services are the subject of this Federal Notice: (1) Environmental conflict assessment services; (2) environmental conflict resolution services; (3) the National Roster of Environmental Dispute Resolution and Consensus Building Professionals; (4) environmental conflict resolution training courses and workshops; and (5) meeting facilitation. Evaluations will mainly involve administering questionnaires to parties and professionals engaged in U.S. Institute projects, as well as members and users of the National Roster. Responses by members of the public to the Institute's request for information (i.e., questionnaires) will be voluntary and anonymous.

The U.S. Institute is exploring with several other federal agencies how its program evaluation system can be of use to their own program evaluation needs. The broader use of similar data collection instruments and consistent data collection and analysis techniques may provide cost savings to other agencies and accelerate the rate at which each agency reviews and improves effective performance of conflict resolution processes.

Key Issues

The U.S. Institute would appreciate receiving comments that can be used to:

(i) Evaluate whether the proposed collection of information is necessary for the proper performance of the U.S. Institute, including whether the information will have practical utility;

(ii) Determine whether the nature and extent of the proposed level of anonymity for those from whom the U.S. Institute will be collecting information is adequate and appropriate;

(iii) Evaluate the accuracy of the U.S. Institute's estimate of the burden associated with the proposed information collection activities;

(iv) Enhance the quality, utility, and clarity of the information to be collected;

(v) Minimize the burden of the information collection on those who are to respond, including suggestions concerning use of automated collection techniques or other forms of information technology (e.g., allowing electronic submission of responses).

As used in this document, “burden” means the total time, effort, or financial resources expended by persons to generate, maintain, retain, disclose or provide information to or for a Federal Agency. This includes time needed to: review instructions; develop, acquire, install, and utilize technology and systems for the purposes of collecting, validating, and verifying information, processing and maintaining information, and disclosing and providing information; adjust existing ways to comply with any previously applicable instructions and requirements; train personnel to be able to respond to a collection of information; search data sources; complete and review the collection of information; and transmit or otherwise disclose the information.

Technical Details

The upcoming information collection request by the U.S. Institute is one step in the process for establishing an operational program evaluation system. Development of the system formally began in 1999, as part of a broader collaborative program evaluation initiative co-sponsored by the U.S. Institute and the Policy Consensus Initiative (PCI), involving the University of Arizona's Udall Center for Studies in Public Policy, Indiana University's School for Public and Environmental Affairs, the Indiana Conflict Resolution Institute, and Syracuse University's Maxwell School for Citizenship and Public Affairs. After extensive preparation, a two-day workshop on program evaluation was held with several federal and state program managers, academic researchers, and practitioners. Subsequently, the U.S. Institute and PCI began working together with two state agencies that administer public policy and environmental dispute resolution programs; the Massachusetts Office of Dispute Resolution and the Oregon Dispute Resolution Commission. With PCI's support and coordination and contracted program evaluation consultants, the U.S. Institute and these state programs have been developing their program evaluation systems. These programs have now completed pilot testing and are in the early stages of implementation. This collaborative effort has provided essential guidance, critical review and confirmation for the U.S. Institute's approach to its program evaluation system.

Technical details of the Institute's evolving program evaluation system are contained in a December 2001 draft report entitled Applying Program Evaluation Methods at the U.S. Institute for Environmental Conflict Resolution. Paper copies of this report can be obtained by contacting the Institute; an electronic copy can be downloaded from the Institute's website: www.ecr.gov/techdoc.htm.

One of the most important design criteria for any program evaluation system is its validity—ensuring that reported results will be trustworthy and accurately portray the level of success that individual programs and projects achieved in meeting intended outcomes. For each of the Institute's five program and service areas an operational diagram was composed that systematically registers all intended program outcomes and each of the factors believed by current program theory to affect those outcomes. These five outcome diagrams were then used as the framework for formulating the detailed questionnaires that will be used to gather information for evaluating whether intended outcomes were achieved, and for providing diagnostic insights useful in analyzing what factors most influenced the outcomes.

Primary audiences for results from the U.S. Institute's program evaluation system include members of the U.S. Institute program staff and management, which will use the information in decision-making regarding program operation and directions, and oversight bodies such as the Udall Foundation Board of Trustees and OMB. Secondary audiences will likely include other federal agencies, practitioners in the field, researchers, and members of the public. The U.S. Institute will use the information and analysis generated by its program evaluation system for a variety of purposes, including: ongoing improvements to design and operation of projects and programs; periodic performance reporting; annual evaluations of personnel performance; and learning about what factors most influence successful outcomes in specific situations. Ultimately, it is expected that this information will aid further development of best practices for the field of environmental conflict resolution (ECR).

A. List of ICRs Planned To Be Submitted

The U.S. Institute is planning to submit 18 ICRs to OMB, corresponding to 18 individual questionnaires that will be administered to those involved in environmental conflict resolution (ECR) activities connected with U.S. Institute services and programs. Questionnaires will be used to gather information concerning the effectiveness of the ECR services and programs provided by or on behalf of the U.S. Institute. As noted above, consideration is being given to the use of these questionnaires by other agencies for ECR activities, which may or may not involve the U.S. Institute. In the listing below, the questionnaires are organized into five activity areas, indicating the recipients of the questionnaires and, in parentheses, the frequency of administration. It should be noted that additional questionnaires will be administered to U.S. Institute project managers, but OMB clearance is not required for questionnaires directed to federal employees.

Environmental Conflict Assessment

(1) Assessment—Initiating Organization, at the conclusion of the process (once)

(2) Assessment—Neutral, at the conclusion of the process (once)

Environmental Conflict Resolution Services

(3) ECR Process—Parties, at the conclusion of the process (once)

(4) ECR Process—Parties, subsequent to the conclusion of the process (once)

(5) ECR Process—Parties' Attorneys, subsequent to the conclusion of the process (mediation only) (once)

(6) ECR Process—Neutral (facilitators and mediators) at the conclusion of the process (once)

(7) ECR Process—Neutral case summary at conclusion of the process (once)

National Roster of Environmental Dispute Resolution and Consensus-Building Professionals

(8) National Roster—Members (once, upon acceptance to the roster)

(9) National Roster—Members (annual follow-up)

(10) National Roster—Users (once, upon initial use of WWW site)

(11) National Roster-Users (once, per Roster search)

(12) National Roster—Users requesting a referral (once, per request)

Environmental Conflict Resolution Training Courses and Workshops

(13) Training—Participants, prior to start (once)

(14) Training—Participants, at the conclusion (once)

(15) Training—Participants, follow-up (once, six months after training)

(16) Training—Instructor, prior to start (once)

(17) Training—Instructor, at the conclusion (once)

Meeting Facilitation

(18) Meeting Facilitation—Meeting Attendees, at the conclusion of the process (once)

B. Contact Individual for ICRs

David P. Bernard, Associate Director, U.S. Institute for Environmental Conflict Resolution, 110 South Church Avenue, Suite 3350, Tucson, Arizona 85701, Fax: 520-670-5530, Phone: 520-670-5299, E-mail: bernard@ecr.gov.

C. Confidentiality and Access to Information

To encourage candor and responsiveness on the part of those completing the questionnaires, the U.S. Institute intends to report information obtained from questionnaires only in the aggregate. The U.S. Institute intends to withhold the names of respondents and individuals named in responses. Such information regarding individuals is exempt from disclosure under the Freedom of Information Act (FOIA), pursuant to exemption (b)(6) (5 U.S.C. Section 552(b)(6), as the public interest in disclosure of that information would not outweigh the privacy interests of the individuals. Therefore, respondents will be afforded anonymity. Furthermore, no substantive case-specific information that might be confidential under statute, court order or rules, or agreement of the parties will be sought.

The U.S. Institute is committed to providing agencies, researchers and the public with information on the effectiveness of environmental conflict resolution (ECR) and the performance of the U.S. Institute's programs and services. Access to such useful information will be facilitated to the extent possible. The U.S. Institute is also committed, however, to managing the collection and reporting of data so as not to interfere with any ongoing ECR processes or the subsequent implementation of agreements. Case specific data will not be released until an appropriate time period has passed following conclusion of the case; such time period to be determined. FOIA requests will be evaluated on a case-by-case basis.

D. Information on Individual ICRs

Environmental Conflict Assessment

The U.S. Institute consistently encourages the use of conflict or situation assessments. Generally, such assessments are conducted by a neutral party and include a series of confidential structured interviews in person or on the telephone with individuals or groups of parties. Through such assessments, neutrals identify and clarify key issues and parties, and assess the appropriateness of an ECR process and its potential for helping the parties reach agreement. Assessment reports seek to clarify and communicate in a neutral manner the issues and concerns of all parties, and commonly conclude with process design recommendations intended to provide the parties with one or more options for effectively collaborating in inventing a solution to their conflict.

(1) Assessment—Initiating Organization Questionnaire; New collection request; Abstract: Immediately following conclusion of a conflict assessment process, the initiating agency or organization(s) will be surveyed once via questionnaire to determine their views on a variety of issues. Topics to be investigated include: was the conflict assessment approach well suited to the nature of the issues in conflict; was the selected neutral appropriate for the assignment; were all key parties consulted, and, were all key issues and alternatives properly identified and considered? The voluntary questionnaire contains 15 simple questions, many of which require respondents to only provide a fill-in-the blank rating number. Information from the questionnaire will permit U.S. Institute staff to not only evaluate performance for specific projects, but also improve the design of future assessment projects. Affected Entities: Entities potentially affected by this action are individuals in organizations that participate in a conflict assessment conducted by U.S. Institute staff or contractors. Burden Statement: It is estimated that the annual national public burden and associated costs and will be approximately 15 hours and $405 respectively. These values were calculated assuming that on average (a) respondents require 12 minutes per questionnaire (b) there are 1.5 respondents per project (c) respondents are surveyed only once, and (d) there will be 50 assessments conducted each year. Cost burden estimates assume: (a) there are no capital or start-up costs for respondents, and (b) respondents' time is valued at $27 hr.

(2) Assessment—Neutral Questionnaire; New collection request; Abstract: Immediately following conclusion of a conflict assessment, the selected neutral(s) will be surveyed once via questionnaire to determine their views on a variety of issues. Topics to be investigated include: was the conflict assessment approach well suited to the nature of the issues in conflict; were all key parties consulted, and, were all key issues and alternatives properly identified and considered? In most cases, it will be specified in the neutral's contract that they be required to complete the questionnaire. The neutral's questionnaire contains 14 simple questions, many of which require respondents only to provide a fill-in-the blank rating number. Information from the questionnaire will permit U.S. Institute staff to not only evaluate performance for the neutral, but also improve the process for selecting appropriate neutrals for future assessment projects. Affected Entities: Entities potentially affected by this action are neutral ECR practitioners who either are staff members of the U.S. Institute or have been contracted by the Institute. Burden Statement: It is estimated that the annual national public burden and associated costs and will be approximately 10.5 hours and $378, respectively. These values were calculated assuming that on average: (a) neutrals require 10 minutes per questionnaire (b) there are 1.25 respondents per project (c) respondents are surveyed only once, and (d) there will be 50 assessments conducted each year. Cost burden estimates assume: (a) there are no capital or start-up costs for respondents, and (b) respondents' time is valued at $36 hr.

Environmental Conflict Resolution Services

A variety of non-adversarial, participatory processes are available as adjuncts or alternatives to conventional forums for resolving environmental disputes or reaching environmental agreements. Such environmental conflict resolution (ECR) processes range broadly depending on the nature of the dispute and the parties involved as well as their context (for example, early on in planning processes, when seeking administrative relief, or during litigation). Under the right circumstances, a well-designed ECR process facilitated or mediated by the right neutral can effectively assist parties in reaching agreement on plans, proposals, and recommendations to settle their dispute. ECR processes can also result in improvement in relationships among the parties, and increase their individual and collective capacity to manage or resolve future conflicts. The following survey instruments have been designed for use across the full range of ECR, be they collaborative agreement-seeking processes or environmental mediation.

(3) ECR Process—Parties Questionnaire; New collection request; Abstract: Immediately following conclusion of an ECR process, the parties that have been involved will be surveyed once, via questionnaire, to determine their views on a variety of issues. Topics to be investigated include: are the parties now more likely to consider collaborative processes in the future; were the “right” parties effectively engaged throughout the process; was there an appropriate scope and design for the ECR process; did the parties have the capacity to engage in the process; was the neutral (or team) that guided the process appropriate; and did all parties have access to the best available and relevant information? The voluntary questionnaire contains 29 questions, many of which require respondents only to fill-in-the blank with their level of agreement or a rating number. Information from the questionnaire will permit U.S. Institute staff to evaluate if the intended ECR outcomes were achieved, and if so or not, why. Affected Entities: Entities potentially affected by this action are parties to ECR process conducted by, on behalf of, the U.S. Institute. Burden Statement: It is estimated that the annual national public burden and associated costs and will be approximately 400 hours and $10,800, respectively. These values were calculated assuming that on average: (a) parties require 12 minutes per questionnaire (b) there are 20 respondents per project (c) respondents are surveyed only once, and (d) there will be 100 ECR projects conducted each year. Cost burden estimates assume: (a) there are no capital or start-up costs for respondents, and (b) respondents' time is valued at $27 hr.

(4) ECR Process—Parties Follow-up Questionnaire; New collection request; Abstract: To gain information concerning the loner-term effectiveness of the ECR process, an additional questionnaire will be administered to the parties at a future date following conclusion of the process. Topics to be examined include: do all parties perceive an improvement in their collective relationships; do the parties consider the ECR process to have been fair and open; are the parties satisfied with services of the U.S. Institute; did the decision makers agree to implement the plans, proposals, recommendations or settlement agreement; and—if implemented—did the solution endure changes in conditions and unanticipated events. The voluntary questionnaire contains 13 questions, many of which require respondents to only fill-in-the blank with their level of agreement or a rating number. Information from the questionnaire will permit U.S. Institute staff to evaluate if the ECR outcomes were sustainable, and if not, why. Affected Entities: Entities potentially affected by this action are parties to ECR process conducted by, on behalf of, the U.S. Institute. Burden Statement: It is estimated that the annual national public burden and associated costs and will be approximately 333 hours and $9,000, respectively. These values were calculated assuming that on average: (a) parties require 10 minutes per questionnaire (b) there are 20 respondents per project (c) respondents are surveyed only once, and (d) there will be 100 ECR projects conducted each year. Cost burden estimates assume: (a) there are no capital or start-up costs for respondents, and (b) respondents' time is valued at $27 hr.

(5) ECR Process—Parties' Attorneys Questionnaire (mediation only); New collection request; Abstract: Immediately following conclusion of an ECR mediation process, attorneys (if any) who represented parties to the dispute will be surveyed once, via questionnaire, to determine their views on a variety of issues. Topics to be investigated are similar to those in questionnaire (4), above, except this instrument places greater emphasis on gaining a legal perspective. This voluntary questionnaire contains 38 questions, and only a few of these require other than a simple fill-in-the blank response. Information from this questionnaire will permit U.S. Institute staff to evaluate if the intended ECR outcomes were achieved, and if so or not, why. Affected Entities: Entities potentially affected by this action are parties to ECR process conducted by, on behalf of, the U.S. Institute. Burden Statement: It is estimated that the annual national public burden and associated costs and will be approximately 9 hours and $369, respectively. These values were calculated assuming that on average: (a) attorneys require 12 minutes per questionnaire; (b) there are 0.45 respondents per project (c) respondents are surveyed only once, and (d) there will be 100 ECR projects conducted each year. Cost burden estimates assume: (a) there are no capital or start-up costs for respondents, and (b) respondents' time is valued at $41 hr.

(6) ECR Process—Neutral (facilitators and mediators) Questionnaire; New collection request; Abstract: Immediately following conclusion of an environmental conflict resolution process, the neutral(s) will be surveyed once, via questionnaire, to determine their views on a variety of issues. Topics to be investigated include: was the ECR approach well suited to the nature of the issues in conflict; were all key parties consulted, and, were all key issues and alternatives properly identified and considered? In most cases, it will be specified in the neutral's contract that they be required to complete the questionnaire. The neutral's questionnaire contains 44 questions. Information from this questionnaire will permit U.S. Institute staff to evaluate if the intended ECR outcomes were achieved, and if so or not, why. Affected Entities: Entities potentially affected by this action are neutrals in ECR processes conducted by, on behalf of, the U.S. Institute. Burden Statement: It is estimated that the annual national public burden and associated costs and will be approximately 62.5 hours and $2,250, respectively. These values were calculated assuming that on average: (a) neutrals will require minutes per questionnaire; (b) there are 1.25 respondents per project (c) respondents are surveyed only once, and (d) there will be 100 ECR projects conducted each year. Cost burden estimates assume: (a) there are no capital or start-up costs for respondents, and (b) respondents' time is valued at $36 hr.

(7) ECR Process—Neutral case summary; New collection request; Abstract: Immediately following conclusion of an environmental conflict resolution process, the neutral(s) will be asked to provide answers to four questions the answers to which will help the U.S. Institute characterize the controversy. Among other things, the questions explore the benefits from the collaborative process, and insights concerning which controversies are most appropriate for collaborative processes, along with suggestions regarding the design and implementation of ECR processes. In those cases managed by the U.S. Institute, it will be specified in the neutral's contract that they be required to provide answers to these questions. Information from this questionnaire will permit U.S. Institute staff to evaluate if the intended ECR outcomes were achieved, and if so or not, why. Affected Entities: Entities potentially affected by this action are neutrals in ECR processes conducted by, on behalf of, the U.S. Institute. Burden Statement: It is estimated that the annual national public burden and associated costs and will be approximately 31.25 hours and $1,125, respectively. These values were calculated assuming that on average: (a) neutrals will require 15 minutes per questionnaire; (b) there are 1.25 respondents per project (c) respondents are surveyed only once, and (d) there will be 100 ECR projects conducted each year. Cost burden estimates assume: (a) there are no capital or start-up costs for respondents, and (b) respondents' time is valued at $36 hr.

National Roster of Environmental Dispute Resolution and Consensus-Building Professionals

The U.S. Institute has a full-time Roster Manager who supervises a Roster Program consisting of two main components: design and operation of the National Roster of Environmental Dispute Resolution and Consensus Building Professionals, and overseeing the associated referral system. Membership on the roster remains open at all times. Potential members apply on line and are required to provide information that demonstrates a level of training and experience adequate to meet specific, objective entry criteria. First constituted in February 2000, the roster currently includes over 180 members, nationwide. When making referrals and locating neutrals for sub-contracting, the U.S. Institute uses the roster as a primary source to find experienced individuals, particularly in the locale of the project or dispute (as required by the Institute's enabling legislation). Currently, dispute resolutions specialists at the U.S. EPA have direct access to the roster and use it to assist them in finding practitioners. Other federal agencies, and the public, will soon have direct access to the roster via the WWW. When requested by any party to a qualifying dispute, the Roster Manager also provides advice and assistance regarding selection of appropriate practitioners.

(8) National Roster—Members Questionnaire; New collection request; Abstract: After being registered as a roster member, individuals will be surveyed once, via questionnaire, to determine their views on a variety of issues. Topics to be investigated include their level of satisfaction with the application process and computer system that provides web access; and their level awareness of the roster and how to best use it for their needs. This voluntary questionnaire contains 20 questions, and most require only a simple fill-in-the blank response. Data and information from this questionnaire will permit U.S. Institute staff to evaluate the performance of the Roster Program, to determine it is meeting its intended outcomes, and if so or not, why. Affected Entities: Entities potentially affected by this action are roster members. Burden Statement: It is estimated that the annual national public burden and associated costs and will be approximately 66.7 hours and $2,400, respectively. These values were calculated assuming that on average: (a) roster members require 20 minutes per questionnaire; (b) there are 200 roster members per year; (c) respondents are surveyed only once. Cost burden estimates assume: (a) there are no capital or start-up costs for respondents, and (b) respondents' time is valued at $36 hr.

(9) National Roster—Members Follow-up Questionnaire; New collection request; Abstract: After being registered as a roster member for a period of time, individuals will be again surveyed, once, via questionnaire, to determine their views on a variety of issues. Topics to be investigated are similar to those in questionnaire (8), described above, and include their level of satisfaction with their roster membership, the computer system that provides web access; and the degree to which roster membership has been beneficial to them. This voluntary questionnaire contains 20 questions, and most require only a simple fill-in-the blank response. Data and information from this questionnaire will permit U.S. Institute staff to evaluate the performance of its Roster Program, to determine if it is meeting its intended outcomes, and if not, why. Affected Entities: Entities potentially affected by this action are roster members. Burden Statement: It is estimated that the annual national public burden and associated costs will be approximately 76.7 hours and $2,760, respectively. These values were calculated assuming that on average: (a) roster members require 20 minutes per questionnaire; (b) there are 230 roster members per year; (c) respondents are surveyed only once. Cost burden estimates assume: (a) there are no capital or start-up costs for respondents, and (b) respondents' time is valued at $36 hr.

(10) National Roster—Users Questionnaire (Upon Registering); New collection request; Abstract: Users who are seeking to identify appropriate neutrals for a specific case via electronic access to the roster must first register on line with the Roster Manager to gain access to the roster website. After gaining access, users will be surveyed once prior to logging off from their first use of the website to gain information concerning the functioning and utility of the website. Should major revisions occur in the website design, these users will again be surveyed, once, following their next use of the roster website. This voluntary questionnaire contains seven questions, most requiring only a simple fill-in-the blank response. Information from this questionnaire will permit U.S. Institute staff to evaluate the performance of the Roster website and whether it is meeting the intended outcomes, and if so or not, why. Affected Entities: Entities potentially affected by this action are individuals who have register to use the roster website. Burden Statement: It is estimated that the annual national public burden and associated costs and will be approximately 5 hours and $135, respectively. These values were calculated assuming that on average: (a) users require 15 minutes to complete the questionnaire; (b) there are 20 new users per year; and (c) respondents are surveyed only once. Cost burden estimates assume: (a) there are no capital or start-up costs for respondents, and (b) respondents' time is valued at $27 hr.

(11) National Roster-Questionnaire for Users After Each Roster Search; New collection request; Abstract: Users who search the roster will be surveyed once for each new roster search. This voluntary questionnaire contains 23 questions, most requiring no more than a simple fill-in-the blank response. Information from this questionnaire will permit U.S. Institute staff to evaluate how well the Roster is performing in meeting the needs of those searching the roster, and if so or not, why. Affected Entities: Entities potentially affected by this action are individuals who use the roster to search for names of neutrals. Burden Statement: It is estimated that the annual national public burden and associated costs will be approximately 10 hours and $270, respectively. These values were calculated assuming that on average: (a) roster searchers require 10 minutes to complete the questionnaire; (b) there are 60 roster searches per year; and (c) respondents are surveyed only once. Cost burden estimates assume: (a) there are no capital or start-up costs for respondents, and (b) respondents' time is valued at $27 hr.

(12) National Roster—Questionnaire for Users Requesting A Referral; New collection request; Abstract: Users who request assistance for their roster search directly from the Roster Manager, or other U.S. Institute staff, will be surveyed once for each new assisted roster search. This voluntary questionnaire contains 18 questions, most requiring only a simple fill-in-the blank response. Information from this questionnaire will permit U.S. Institute staff to evaluate how well the combination of the roster and support from Institute personnel performed in meeting the needs of those requesting assistance, and if or if not fully, then why. Affected Entities: Entities potentially affected by this action are individuals who request assistance in using the roster to search for names of neutral candidates. Burden Statement: It is estimated that the annual national public burden and associated costs will be approximately 10 hours and $360, respectively. These values were calculated assuming that on average: (a) users who have requested assistance will require 10 minutes to complete the questionnaire; (b) there are 60 assisted roster searches each year; and (c) respondents are surveyed only once for each referral. Cost burden estimates assume: (a) there are no capital or start-up costs for respondents, and (b) respondents' time is valued at $36 hr.

Environmental Conflict Resolution Training Courses and Workshops

Education and training sessions are conducted by the U.S. Institute and its contractors for a variety of audiences to both increase the appropriate use of ECR and to improve the ability of those participating in ECR processes to effectively negotiate on their own behalf and collaborate on the best possible agreement. The subject of training sessions varies widely, depending on the participants and their specific training needs. The specific objectives of the training must be articulated at the outset and professional training instructors are expected to design and/or deliver appropriate training to meet those objectives and the expectations of the participants.

Participants in training sessions will be asked to complete three questionnaires, one each before the course is presented, again at the conclusion of the training, and finally at some future date. Likewise, instructors will be asked to complete two questionnaires, one each before the course begins, and at the conclusion of the course.

(13) Training—Participants Questionnaire, prior to start; New collection request; Abstract: Training participants will be asked to complete a questionnaire before the course begins. Participation is voluntary and the questionnaire contains 18 questions, most requiring only a simple fill-in-the blank response. Data and information from this questionnaire will establish a baseline for measuring changes in an individual's level of skill and knowledge as a function of participation in the training sessions. Affected Entities: Entities potentially affected by this action are individuals who participate in training sessions sponsored by the U.S. Institute. Burden Statement: It is estimated that the annual national public burden and associated costs will be approximately 500 hours and $13,500, respectively. These values were calculated assuming that on average: (a) training participants require 10 minutes to complete the questionnaire; and (b) there are 3,000 training participants each year. Cost burden estimates assume: (a) there are no capital or start-up costs for respondents, and (b) respondents' time is valued at $27 hr.

(14) Training—Participants Questionnaire, at the conclusion; New collection request; Abstract: Training participants will be asked to complete a questionnaire at the end of the course. Participation is voluntary and the survey instrument contains nine questions, about half requiring descriptive answers. Data and information from this questionnaire will be compared with the baseline established with the pre-training questionnaire. Results will be used to determine the effectiveness of the training in improving each participant's level of skill and knowledge, and to aid in determining what, if any, factors favorably or adversely affected the participant's learning. Affected Entities: Entities potentially affected by this action are individuals who participate in training sessions sponsored by the U.S. Institute. Burden Statement: It is estimated that the annual national public burden and associated costs and will be approximately 500 hours and $13,500, respectively. These values were calculated assuming that on average: (a) training participants require 10 minutes to complete this questionnaire; and (b) there are 3,000 training participants each year. Cost burden estimates assume: (a) there are no capital or start-up costs for respondents, and (b) respondents' time is valued at $27 hr.

(15) Training—Participants Questionnaire, Follow-Up; New collection request; Abstract: Six months (or an appropriate interval to be determined) after the training session, each participant will be asked to complete a final questionnaire. Participation is voluntary and the survey instrument contains nine questions, about half requiring descriptive answers. Data and information from this questionnaire will be used to determine the longevity and practical usefulness of any improvements in skills and knowledge that participants gained from the original training sessions. The questionnaire also contains some questions designed to identify if and why longer-term training results may not be expected. Affected Entities: Entities potentially affected by this action are individuals who participate in training sessions sponsored by the U.S. Institute. Burden Statement: It is estimated that the annual national public burden and associated costs will be approximately 500 hours and $13,000, respectively. These values were calculated assuming that on average: (a) training participants require 10 minutes to complete this questionnaire; and (b) there are 3,000 training participants each year. Cost burden estimates assume: (a) there are no capital or start-up costs for respondents, and (b) respondents' time is valued at $27 hr.

(16) Training—Instructor Questionnaire, prior to start; New collection request; Abstract: Instructors will be asked to complete a questionnaire before the course begins. In most cases, it will be specified in the instructor's contract that they complete the questionnaire. This survey instrument contains six questions, most requiring only a simple fill-in-the blank response. Data and information from this questionnaire will establish a baseline of the instructor's expectations and intentions to be used in measuring changes at the end of the course. Affected Entities: Entities potentially affected by this action are instructors who lead training sessions sponsored by the U.S. Institute. Burden Statement: It is estimated that the annual national public burden and associated costs will be approximately 33.3 hours and $1,200, respectively. These values were calculated assuming that on average: (a) instructors require 10 minutes to complete the questionnaire; and (b) each year there are 200 instructors who work on training sessions sponsored by the U.S. Institute. Cost burden estimates assume: (a) there are no capital or start-up costs for respondents, and (b) respondents' time is valued at $36 hr.

(17) Training—Instructor Questionnaire, at the conclusion; New collection request; Abstract: When the course concludes, instructors will be asked to complete a questionnaire. In most cases, it will be specified in their contract that they complete this questionnaire. The survey instrument contains five questions, most requiring only a simple fill-in-the blank response. Data and information from this questionnaire will help establish a contextual baseline for evaluating survey data from the training participants. As well, this instrument is also intended to generate useful feedback on ways to improve the U.S. Institute's training projects. Affected Entities: Entities potentially affected by this action are instructors who lead training sessions sponsored by the U.S. Institute. Burden Statement: It is estimated that the annual national public burden and associated costs will be approximately 33.3 hours and $1,200, respectively. These values were calculated assuming that on average: (a) instructors require 10 minutes to complete the questionnaire; and (b) each year there are 200 instructors who work on training sessions sponsored by the U.S. Institute. Cost burden estimates assume: (a) there are no capital or start-up costs for respondents, and (b) respondents' time is valued at $36 hr.

Meeting Facilitation

U.S. Institute staff and contractors facilitate and provide leadership for many public meetings, ranging from small group meetings to large public convenings of several hundred attendees. In order to maximize the probability that such meeting objectives will be accomplished, the meeting participants must both understand the objectives for the meeting, and perceive that the meeting was managed in a fair and efficient manner. This requires that the right facilitator run the meeting, and the right people attend the meeting.

(18) Meeting Facilitation—Meeting Attendees Questionnaire, at the conclusion of the process; New collection request; Abstract: Attendees at public meetings run by U.S. Institute staff or contractors will be asked to complete a voluntary questionnaire at the conclusion of the meeting. The questionnaire used in this case contains nine questions, two-thirds requiring only a simple fill-in-the blank response. Information from this questionnaire will help evaluate the effectiveness of individual facilitators and particular meeting process designs. Affected Entities: Entities potentially affected by this action are individuals who participate in these public meetings. Burden Statement: It is estimated that the annual national public burden and associated costs will be approximately 833.3 hours and $22,500, respectively. These values were calculated assuming that on average: (a) meeting attendees require 10 minutes to complete the questionnaire; (b) the U.S. Institute conducts 100 public meetings each year; and (c) 50 people attend the average meeting. Cost burden estimates assume: (a) there are no capital or start-up costs for respondents; and (b) respondents' time is valued at $27 hr.

Dated: December 18, 2001.
Christopher L. Helms,
Executive Director, Morris K. Udall Foundation.

[FR Doc. 01-31587 Filed 12-21-01; 8:45 am]

BILLING CODE 6820-FN-P